ENVIRONMENTAL PROTECTION AGENCY

40 CFR Part 52

[EPA-R09-OAR-2024-0472; FRL-12322-02-R9]

Clean Data Determination and Approval of Base Year Emissions Inventory; California; Los Angeles-South Coast Air Basin; 189(d) Plan for the 2006 24-Hour PM2.5 NAAQS

AGENCY: Environmental Protection Agency (EPA).

ACTION: Final rule.

SUMMARY: The Environmental Protection Agency (EPA) is making a clean data determination (CDD) for the Los Angeles-South Coast Air Basin (“South Coast”) air quality planning area in California based on our determination that the area is attaining the 2006 24-hour fine particulate matter (PM2.5) national ambient air quality standards (NAAQS). As a result of this CDD, certain Clean Air Act (CAA) requirements that have applied to California will be suspended for so long as the area continues to meet the 2006 24-hour PM2.5 NAAQS. The EPA is also approving a revision to California's state implementation plan (SIP) consisting of the 2018 base year emissions inventory for the South Coast PM2.5 nonattainment area, submitted by the California Air Resources Board (CARB) on December 29, 2020.

DATES: his rule is effective July 3, 2025.

ADDRESSES: The EPA has established a docket for this action under Docket ID No. EPA-R09-OAR-2024-0472. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information. If you need assistance in a language other than English or if you are a person with a disability who needs a reasonable accommodation at no cost to you, please contact the person identified in the FOR FURTHER INFORMATION CONTACT section.

FOR FURTHER INFORMATION CONTACT: Ashley Graham, EPA Region IX, 75 Hawthorne Street, San Francisco, CA 94105; phone: (415) 972-3877; email: graham.ashleyr@epa.gov.

SUPPLEMENTARY INFORMATION: Throughout this document, “we,” “us,” and “our” refer to the EPA.

Table of Contents

I. Summary of the Proposed Action

II. Public Comment

III. Final Action

IV. Statutory and Executive Order Reviews

I. Summary of Proposed Action

On November 25, 2024, the EPA proposed to determine, based on the most recent three years (2021-2023) of complete (or otherwise validated), quality-assured, and certified data meeting the requirements of 40 CFR part 50, appendix N, that the South Coast PM2.5 nonattainment area attained the 2006 24-hour PM2.5 NAAQS.1 2 In conjunction with and based on our proposed determination that the South Coast area had attained and was currently attaining the 2006 24-hour PM2.5 NAAQS, and in accordance with 40 CFR 51.1015, the EPA proposed to issue a CDD for the South Coast PM2.5 nonattainment area for those NAAQS.

¹ 89 FR 92873 (November 25, 2024).

² The EPA also evaluated preliminary data available in the EPA's Air Quality System (AQS) for 2024 (January through June). These data indicated that the South Coast area continued to show concentrations below the level of the 2006 24-hour PM2.5 NAAQS. Id. at 92877.

The EPA's proposal explained that if we were to finalize the proposal, the requirements for the area to submit an attainment demonstration, reasonable further progress plan, quantitative milestones and quantitative milestone reports, contingency measures, and any other SIP revisions related to attainment of the 2006 24-hour PM2.5 NAAQS would be suspended so long as the area continues to meet the standards. Our proposal noted that California had already submitted an attainment plan titled “Final South Coast Air Basin Attainment Plan for 2006 24-hour PM2.5 Standard” (“South Coast PM2.5 Plan”) ³ to address these requirements and that the EPA would evaluate and act on the remaining SIP elements in the submitted plan through subsequent rulemakings, as appropriate.⁴ We also explained that a CDD does not constitute a redesignation to attainment, and that the South Coast PM2.5 nonattainment area will remain designated nonattainment for the 2006 24-hour PM2.5 NAAQS until such time as the EPA determines, pursuant to sections 107 and 175A of the CAA, that the South Coast PM2.5 nonattainment area meets the CAA requirements for redesignation to attainment, including an approved maintenance plan showing that the area will continue to meet the standards for 10 years.⁵

³ Letter dated December 28, 2020, from Richard W. Corey, Executive Officer, CARB, to John W. Busterud, Regional Administrator, EPA Region 9, with enclosures (submitted electronically December 29, 2020).

⁴ 89 FR 92873, 92880 (November 25, 2024).

⁵ Id.

Finally, as authorized in CAA section 110(k)(3), we proposed to approve the base year emissions inventory in the South Coast PM2.5 Plan as meeting the requirements of CAA section 172(c)(3) and 40 CFR 51.1008(c)(1) based on our evaluation and finding that the inventory fulfills all relevant requirements.

Please see our November 25, 2024 proposed rulemaking ⁶ for additional background and a detailed explanation of the rationale for our proposed action.

⁶ 89 FR 92873 (November 25, 2024).

II. Public Comment

The public comment period on the proposed rulemaking opened on November 25, 2024,⁷ the date of its publication in the Federal Register, and closed on December 26, 2024. We did not receive any public comments on our proposal.

⁷ Id.

III. Final Action

Preliminary data available in the EPA's Air Quality System (AQS) for 2024 (January through December) indicate that the area continues to show concentrations consistent with attainment of the 2006 24-hour PM2.5 NAAQS.⁸ Thus, for the reasons discussed in detail in the proposed rulemaking and summarized herein, the EPA is taking final action to determine, based on the most recent three years (2021-2023) of complete (or otherwise validated), quality-assured, and certified data meeting the requirements of 40 CFR part 50, appendix N, that the South Coast PM2.5 nonattainment area has attained the 2006 24-hour PM2.5 NAAQS.

⁸ EPA, AQS Design Value Report (AMP480), Report Request ID: 2277348, April 1, 2025.

Based on our determination that the South Coast area has attained and is currently attaining the 2006 24-hour PM2.5 NAAQS, in accordance with 40 CFR 51.1015, the EPA is issuing a CDD for the South Coast PM2.5 nonattainment area for the 2006 24-hour PM2.5 NAAQS. Consequently, the requirements for this area to submit any remaining attainment-related SIP revisions will be suspended for so long as the area continues to attain those NAAQS. These attainment-related SIP revisions include the attainment demonstration, reasonable further progress plan, quantitative milestones and quantitative milestone reports, contingency measures, and any other SIP revisions related to the attainment of the 2006 24-hour PM2.5 NAAQS. As discussed in our proposal, on December 29, 2020, California submitted a SIP revision to address these requirements. The EPA intends to evaluate and act on the remaining SIP elements in this submission through subsequent rulemakings, as appropriate.

This CDD does not constitute a redesignation to attainment. The South Coast PM2.5 nonattainment area will remain designated nonattainment for the 2006 24-hour PM2.5 NAAQS until such time that the EPA determines, pursuant to sections 107 and 175A of the CAA, that the South Coast PM2.5 nonattainment area meets the CAA requirements for redesignation to attainment, including an approved maintenance plan showing that the area will continue to meet the standards for 10 years.

We are also finalizing approval of the South Coast PM2.5 Plan's 2018 base year emissions inventory as meeting the requirements of CAA section 172(c)(3) and 40 CFR 51.1008(c)(1). As authorized in section 110(k)(3) of the Act, the EPA is approving the submitted base year emissions inventory based on our determination that it fulfills all relevant requirements.

IV. Statutory and Executive Order Reviews

Under the CAA, the Administrator is required to approve a SIP submission that complies with the provisions of the Act and applicable Federal regulations. 42 U.S.C. 7410(k); 40 CFR 52.02(a). Thus, in reviewing SIP submissions, the EPA's role is to review state choices, and approve those choices if they meet the minimum criteria of the Act. Accordingly, this final action approves state law as meeting Federal requirements and does not impose additional requirements beyond those imposed by state law.

Additional information about these statutes and Executive orders can be found at https://www.epa.gov/laws-regulations/laws-and-executive-orders.

A. Executive Order 12866: Regulatory Planning and Review and Executive Order 13563: Improving Regulation and Regulatory Review

This action is not a significant regulatory action and was therefore not submitted to the Office of Management and Budget (OMB) for review.

B. Executive Order 14192: Unleashing Prosperity Through Deregulation

This action is not an Executive Order 14192 regulatory action because this action is not significant under Executive Order 12866.

C. Paperwork Reduction Act (PRA)

This action does not impose an information collection burden under the PRA. This action finds that the South Coast PM2.5 nonattainment area is attaining the 2006 24-hour PM2.5 NAAQS and approves the base year emissions inventory in the South Coast PM2.5 Plan. Thus, this action does not impose additional requirements beyond those imposed by state law.

D. Regulatory Flexibility Act (RFA)

I certify that this action will not have a significant economic impact on a substantial number of small entities under the RFA. This action will not impose any requirements on small entities beyond those imposed by state law.

E. Unfunded Mandates Reform Act (UMRA)

This action does not contain any unfunded mandate as described in UMRA, 2 U.S.C. 1531-1538, and does not significantly or uniquely affect small governments. This action does not impose additional requirements beyond those imposed by state law. Accordingly, no additional costs to state, local, or tribal governments, or to the private sector, will result from this action.

F. Executive Order 13132: Federalism

This action does not have federalism implications. It will not have substantial direct effects on the states, on the relationship between the National Government and the states, or on the distribution of power and responsibilities among the various levels of government.

G. Executive Order 13175: Coordination With Indian Tribal Governments

This action does not have tribal implications, as specified in Executive Order 13175, because the SIP is not approved to apply on any Indian reservation land or in any other area where the EPA or an Indian tribe has demonstrated that a tribe has jurisdiction, and it will not impose substantial direct costs on tribal governments or preempt tribal law. Thus, Executive Order 13175 does not apply to this action.

H. Executive Order 13045: Protection of Children From Environmental Health Risks and Safety Risks

The EPA interprets Executive Order 13045 as applying only to those regulatory actions that concern environmental health or safety risks that the EPA has reason to believe may disproportionately affect children, per the definition of “covered regulatory action” in section 2-202 of the Executive order. Therefore, this action is not subject to Executive Order 13045 because it merely finalizes a CDD and approval of a base year emissions inventory as meeting Federal requirements. Furthermore, the EPA's Policy on Children's Health does not apply to this action.

I. Executive Order 13211: Actions That Significantly Affect Energy Supply, Distribution, or Use

This action is not subject to Executive Order 13211, because it is not a significant regulatory action under Executive Order 12866.

J. National Technology Transfer and Advancement Act (NTTAA)

Section 12(d) of the NTTAA directs the EPA to use voluntary consensus standards in its regulatory activities unless to do so would be inconsistent with applicable law or otherwise impractical. The EPA believes that this action is not subject to the requirements of section 12(d) of the NTTAA because application of those requirements would be inconsistent with the CAA.

K. Congressional Review Act (CRA)

This action is subject to the CRA, and the EPA will submit a rule report to each House of the Congress and to the Comptroller General of the United States. This action is not a “major rule” as defined by 5 U.S.C. 804(2).

L. Petitions for Judicial Review

Under section 307(b)(1) of the CAA, petitions for judicial review of this action must be filed in the United States Court of Appeals for the appropriate circuit by August 4, 2025. Filing a petition for reconsideration by the Administrator of this final rule does not affect the finality of this rule for the purposes of judicial review nor does it extend the time within which a petition for judicial review may be filed, and shall not postpone the effectiveness of such rule or action. This action may not be challenged later in proceedings to enforce its requirements (see section 307(b)(2)).

List of Subjects in 40 CFR Part 52

Environmental protection, Air pollution control, Ammonia, Incorporation by reference, Intergovernmental relations, Nitrogen oxides, Particulate matter, Reporting and recordkeeping requirements, Sulfur oxides, Volatile organic compounds.

Dated: May 21, 2025.
Joshua F. W. Cook,
Regional Administrator, Region IX.

For the reasons stated in the preamble, the Environmental Protection Agency amends part 52, chapter I, title 40 of the Code of Federal Regulations as follows:

PART 52—APPROVAL AND PROMULGATION OF IMPLEMENTATION PLANS

1. The authority citation for part 52 continues to read as follows:

Authority: 42 U.S.C. 7401 et seq.

Subpart F—California

2. Section 52.220 is amended by adding paragraph (c)(627) to read as follows:

§ 52.220 Identification of plan—in part.

* * * * *

(c) * * *

(627) The following plan was submitted on December 29, 2020, by the Governor's designee as an attachment to a letter dated December 28, 2020.

(i) [Reserved]

(ii) Additional materials. (A) South Coast Air Quality Management District.

(1) “Final South Coast Air Basin Attainment Plan for the 2006 24-hour PM2.5 Standard,” adopted December 4, 2020, portions of Chapter 3 (“Base-Year and Future Emissions”) and Appendix I (“Emissions Inventory”) pertaining to the 2018 base year emissions inventory.

(2) [Reserved]

(B) [Reserved]

3. Section 52.247 is amended by adding paragraph (r) to read as follows:

§ 52.247 Control Strategy and regulations: Fine Particle Matter.

* * * * *

(r) Determination of attainment. Effective July 3, 2025, the EPA has determined that, based on 2021 to 2023 ambient air quality data, the South Coast PM2.5 nonattainment area has attained the 2006 24-hour PM2.5 NAAQS. Under the provisions of the EPA's PM2.5 implementation rule (see 40 CFR 51.1015), this determination suspends the requirements for this area to submit an attainment demonstration, a reasonable further progress plan, quantitative milestones and quantitative milestone reports, contingency measures, and any other planning SIP revisions related to attainment for as long as this area continues to attain the 2006 24-hour PM2.5 NAAQS. If the EPA determines, after notice-and-comment rulemaking, that this area no longer meets the 2006 24-hour PM2.5 NAAQS, the corresponding determination of attainment for that area shall be withdrawn.

[FR Doc. 2025-09997 Filed 6-2-25; 8:45 am]

BILLING CODE 6560-50-P